DEPARTMENT OF DEFENSE

Department of the Air Force

Air Force Institute of Technology (AFIT) Subcommittee of the Air University Board of Visitors; Notice of Meeting

ACTION: Notice of meeting of the AFIT Subcommittee of the Air University Board of Visitors.

SUMMARY: The purpose of the meeting is to give the board an opportunity to review Air Force Institute of Technology's educational programs and to present to the Commandant a report of their findings and recommendations concerning these programs.

DATES: The AFIT Subcommittee of the Air University Board of Visitors will hold an open meeting on 12-14 March 2006, with the first business session beginning at 0830 in the Superintendent's Conference Room, Building 642, Wright-Patterson Air Force Base, Ohio (5 seats available).

FOR FURTHER INFORMATION CONTACT: Ms. Beverly Houtz, Academic Affairs Office, Air Force Institute of Technology, (937) 255-6565 ext 4424.

Bao-Anh Trinh,
GS-14, DAF, Air Force Federal Register Liaison Officer.

[FR Doc. E6-1400 Filed 2-1-06; 8:45 am]

BILLING CODE 5001-05-P